DEPARTMENT OF DEFENSE

Department of the Army

Environmental Assessment (EA) and Finding of No Significant Impact (FNSI) for the National Park Seminary Historic District, Forest Glen Annex, Walter Reed Army Medical Center

AGENCY: Department of the Army, DoD.

ACTION: Notice of availability.

SUMMARY: The Department of the Army proposes to report the National Park Seminary Historic District (NPSHD), in its entirety, as excess property to the General Services Administration (GSA), in accordance with Army Regulation 405-90 and federal property law. The NPSHD is part of the Forest Glen Annex of the Walter Reed Army Medical Center (WRAMC) in Montgomery County, Maryland, and is listed on the National Register of Historic Places.

The Army's proposed action will begin the screening and disposal process, by providing notice to the GSA that the NPSHD is excess to the Army's needs. Under the Federal Property and Administrative Services Act and accompanying regulations, GSA is responsible for the disposal of excess federal property. The EA for the NPSHD identifies analyzes the potential impacts of four alternatives: (1) Excessing the NPSHD; (2) excessing NPSHD with additional parcels of land; (3) no action; or (4) moth-balling the historic buildings. The Army's preferred alternative for implementing the proposed action is Alternative 2.

DATES: Public comments on the EA and FNSI must be submitted by June 22, 2000.

ADDRESSES: Address comments to Ms. Beverly Chidel, Acting Public Affairs Officer, Walter Reed Army Medical Center, 6900 Georgia Avenue, N.W., Washington, D.C. 20307-5001 or via email at beverly.chidel@na.amedd.army.mil.

FOR FURTHER INFORMATION CONTACT: Ms. Beverly Chidel, Acting Public Affairs Officer, at (202) 782-7177.

SUPPLEMENTARY INFORMATION: Little or no direct adverse impacts on the natural and human environment are anticipated as a result of the Army's proposed excessing action. The Army will retain control of the property and will continue to provide current levels of security and maintenance until a new owner is found. Indirect adverse impacts on air quality, noise, surface water, soil erosion, biological resources, land use, and traffic would result from the eventual reuse of the property by the new (non-Army) owner, which can be avoided or minimized by using best management practices and complying with state and local laws and regulations. The Army is committed to remedying environmental contamination, associated with the Army's past ownership or use of the NPSHD property, as necessary to protect human health and the environment. On the basis of currently available information, no remedial action is expected to be necessary for hazardous substances or wastes, as defined by 42 U.S.C. 9601(14). Indirect adverse effects on historic properties are expected. Consultation with the Maryland State Historic Preservation Officer (SHPO) under Section 106 of the National Historic Preservation Act is ongoing. The GSA, Army, SHPO, Advisory Council on Historic Preservation, as well as any other consulting parties identified by GSA, will work to achieve an appropriate agreement to address potential adverse effects on the historic district. Further evaluation of impacts will be provided in National Environmental Policy Act documentation that will be prepared by GSA for their action of disposal.

On the basis of the environmental impact analyses found in the EA, which was incorporated into a FNSI, it has been determined that implementing the Army's proposed action of reporting the NPSHD to GSA as excess property will not have significant individual or cumulative impacts on the quality of the human environment. Therefore, an Environmental Impact Statement is not required and will not be prepared.

Individuals who want to review the EA and FNSI may obtain a copy and provide comments during this 30-day period, by writing to Ms. Beverly Chidel at the address listed above. Copies of the EA will also be available for public review at the Silver Spring Branch Library (8901 Colesville Road, Silver Spring, MD). The EA also may be viewed on the Internet at www.wramc.amed.army.mil/departments/dpw.

Dated: May 18, 2000.
Raymond J. Fatz,
Deputy Assistant Secretary of the Army (Environment, Safety and Occupational Health) OASA (I&E).

[FR Doc. 00-12972 Filed 5-22-00; 8:45 am]

BILLING CODE 3710-08-M